DEPARTMENT OF EDUCATION

34 CFR Part 222

RIN 1810-AA94

Impact Aid Programs

AGENCY: Office of Elementary and Secondary Education, Department of Education.

ACTION: Final regulations.

SUMMARY: The Secretary of Education amends the regulations governing the Impact Aid Discretionary Construction program, authorized under section 8007(b) of the Elementary and Secondary Education Act of 1965, as amended. This program provides competitive grants for emergency repairs and modernization of school facilities to certain eligible local educational agencies (LEAs) that receive Impact Aid formula funds. These final regulations amend a requirement for applying for these Impact Aid funds and will improve the administration and distribution of funds under this program. These final regulations apply to grant competitions in fiscal year (FY) 2012 and later years.

DATES: These regulations are effective May 31, 2011.

FOR FURTHER INFORMATION CONTACT: Kristen Walls-Rivas, Impact Aid Program, U.S. Department of Education, 400 Maryland Avenue, SW., Washington, DC 20202. Telephone: (202) 260-1357 or via e-mail: Kristen.Walls-Rivas@ed.gov.

If you use a telecommunications device for the deaf (TDD), call the Federal Relay Service (FRS), toll free, at 1-800-877-8339.

Individuals with disabilities can obtain this document in an accessible format (e.g., braille, large print, audiotape, or computer diskette) on request to the contact person listed under FOR FURTHER INFORMATION CONTACT.

SUPPLEMENTARY INFORMATION: On August 13, 2010, the Secretary published a notice of proposed rulemaking (NPRM) for the Impact Aid Discretionary Construction program in the Federal Register (75 FR 49432). That notice contained background information and our reasons for proposing the particular changes to the regulations, which were proposed to limit Impact Aid Discretionary Construction program applicants to one application per year and one school per application.

There are no differences between the NPRM and these final regulations.

Analysis of Comments

In response to our invitation in the NPRM, three parties submitted comments, one of which was related to the proposed regulations and the rest of which were outside the scope of the proposed regulations. An analysis of the comments since publication of the NPRM follows. Generally, we do not address technical and other minor changes, or suggested changes the law does not authorize the Secretary to make.

Comment: One commenter suggested that instead of limiting each applicant to one application addressing one construction project, each applicant's total receivable funds should be limited to a percentage of the total amount available for new awards, and applicants should continue to be allowed to submit multiple applications for multiple projects.

Discussion: The program statute, which limits the amount of funds provided under emergency or modernization grants at $4 million per LEA over 4 years (or no limit for LEAs with no practical capacity to issue bonds), precludes the Department from specifying a maximum award amount per LEA based on other criteria, such as a percentage of the total amount of funding available. Because the total award amount varies from year to year, assigning a fixed percentage cap could have the effect of limiting some grantees' awards to levels less than the limit prescribed by the statute. The Department believes that these final regulations are the most effective course of action for ensuring that more applicants have the opportunity to receive grants to meet urgent emergency and modernization needs in their school facilities.

Changes: None.

Comment: None.

Discussion: Section 222.183 includes several examples immediately following paragraph (a) which, as a result of the substantive change proposed in the NPRM and made final in this document, are no longer necessary. Although we intended for the amendatory language in the NPRM to remove these examples, it is possible that our intent was not clear. Therefore, we are adding specific instructions in the amendatory language to remove these examples from the regulatory text. We are making this change for clarification purposes only.

Change: We have added specific instructions to the amendatory language to make clear that we are removing the examples immediately following paragraph (a) in § 222.183.

Executive Order 12866

We have reviewed these final regulations in accordance with Executive Order 12866. Under the terms of the order, we have assessed the potential costs and benefits of this final regulatory action.

We have determined that this final regulatory action does not unduly interfere with State, local, and Tribal governments in the exercise of their governmental functions.

Summary of Potential Costs and Benefits

These final regulations are likely to benefit both small and large entities in that they will provide more equitable opportunities for funding of school construction needs.

These final regulations impose no additional administrative or paperwork burden requirements on applicants and no additional requirements with which grant recipients must comply.

The Department incurs no or minimal additional costs to implement these final regulations. In assessing the potential costs and benefits—both quantitative and qualitative—of this final regulatory action, we have determined that the benefits of the final regulations justify the costs.

Paperwork Reduction Act of 1995

These final regulations do not contain any information collection requirements.

Intergovernmental Review

This program is subject to the requirements of Executive Order 12372 and the regulations in 34 CFR Part 79. The objective of the Executive order is to foster an intergovernmental partnership and a strengthened federalism by relying on processes developed by State and local governments for coordination and review of proposed Federal financial assistance.

In accordance with the order, we intend this document to provide early notification of our specific plans and actions for this program.

Assessment of Educational Impact

Based on the response to the NPRM and our review, we have determined that these final regulations do not require transmission of information that any other agency or authority of the United States gathers or makes available.

Electronic Access to This Document: You can view this document, as well as all other Department of Education documents published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available via the Federal Digital System at: http://www.gpo.gov/fdsys.

Catalog of Federal Domestic Assistance Number 84.041 Impact Aid Discretionary Construction Program.

List of Subjects in 34 CFR Part 222

Education, Grant programs—education, Application procedures, Construction programs.

Dated: April 22, 2011.
Thelma Mélendez de Santa Ana,
Assistant Secretary for Elementary and Secondary Education.

For the reasons discussed in the preamble, the Secretary amends chapter II of title 34 of the Code of Federal Regulations as follows:

PART 222—IMPACT AID PROGRAMS

1. The authority citation for part 222 continues to read as follows:

Authority: 20 U.S.C. 7701-7714, unless otherwise noted.

2. Section 222.183 is amended by:

a. Revising paragraph (a) as set forth below; and

b. Removing Examples 1, 2, and 3 following paragraph (a).

The revision reads as follows:

§ 222.183 How does an LEA apply for a grant?

(a) To apply for funds under this program, an LEA may submit only one application for one educational facility for each competition.

* * * * *

[FR Doc. 2011-10239 Filed 4-27-11; 8:45 am]

BILLING CODE 4000-01-P